DEPARTMENT OF COMMERCE

International Trade Administration

Secretarial Infrastructure Business Development Mission to Brazil, Colombia and Panama; May 12-18, 2013

AGENCY: International Trade Administration, Department of Commerce.

ACTION: Notice.

Mission Description

The United States Secretary of Commerce will lead an Infrastructure Business Development Mission to São Paulo and Brasília, Brazil, Bogotá, Colombia and Panama City, Panama from May 12-18, 2013. This business development mission will promote U.S. exports to Brazil, Colombia and Panama by helping U.S. companies' launch or increase their business for infrastructure markets. The mission will include government and business-to-business meetings, market briefings, and networking events. In all three countries, the governments and private sector are investing significant money in infrastructure projects. As a result, the mission will focus on export-ready U.S. firms in a broad range of leading U.S. infrastructure industrial sectors with an emphasis on project management and engineering services (including construction, architecture and design), transportation (including road/highways, rail, airports and intelligent transportation systems), energy (including distribution, transmission and smart grid) and safety and security.

Companies will have two options to select from when applying for participation in this mission:

• Brazil, Colombia and Panama (May 12-18, 2013)

• Colombia and Panama (May 14-18, 2013)

The delegation will be composed of 20-25 U.S. firms representing the mission's target sectors. Representatives of the Department of Transportation (DOT), the U.S. Trade and Development Agency (USTDA), the Export-Import Bank of the United States (Ex-Im) and the Overseas Private Investment Corporation (OPIC) will be invited to participate to provide information and counseling regarding their suite of programs and services in Latin America.

Commercial Setting

Brazil

The Federative Republic of Brazil is Latin America's biggest economy and is the fifth largest country in the world in terms of land mass and population with about 197 million people and the world's seventh largest economy. Brasília is the nation's capital and seat of government. With almost 20 million people, São Paulo is the largest city in Brazil, the largest city in the southern hemisphere and Americas, and the world's seventh largest city by population. It is the country's economic and financial center and traditional access point for companies entering the Brazilian market.

Brazil is the U.S.'s seventh largest export market and eighth largest trading partner. In 2012, U.S. goods exports to Brazil reached nearly $44 billion, 68% above their 2009 level, and our goods trade surplus was over $11 billion. GDP growth was slower than usual at 2.7% in 2011 and around 1% in 2012. Growth slowed due to reduced demand for Brazilian exports in Europe and Asia, despite solid domestic demand and a growing middle class. It is expected to rebound to over 3% in 2013 and 2014.

Although there are major export opportunities in Brazil, there are also substantial challenges, including relatively high tariffs with a heavy and complex customs system, tax structure, and regulatory framework. Additionally, U.S. exporters face expanding government involvement in the marketplace to promote the development or preservation of Brazilian industries deemed to be strategic, including increased use of local content and technology transfer requirements. It is essential for U.S. companies to have local representation in Brazil to be able to successfully compete with Brazilian and other international firms.

The Growth Acceleration Program, or PAC (Programa de Aceleração do Crescimento) launched in 2007, laid out investment plans of nearly R$504 billion (US$306 billion) until 2010 to solve many long-overdue infrastructure issues as well as prepare for the upcoming 2014 World Cup and 2016 Olympics games for which Brazil expects to invest $12 billion. The PAC 2, released in March of last year, was a continuation of the project that promised infrastructure spending of R$959 billion (US$582 billion) from 2011 to 2014. Infrastructure opportunities for U.S. companies abound, especially in the transportation, energy, environment, ports, and ICT sectors.

Colombia

Colombia ranks solidly with the group of progressive, industrializing countries worldwide that have diversified agriculture, resources, and productive capacities. Despite the global economic crisis, Colombia's economic prospects are positive. In 2011, Colombia enjoyed 5.9% GDP growth and was approximately 4% in 2012. Colombia is attracting record amounts of foreign direct investment (FDI), which is further leading to rapid industrial development, necessitating the need for improved infrastructure. In 2011, Colombia attracted $13 billion in FDI, and early estimates come in at $15 billion in 2012. In addition, per capita income continues to grow as Colombia's middle class has doubled in the past 10 years.

Colombia is the third largest market in the region, after Mexico and Brazil, and is ranked 22nd as a market for U.S. exports globally. Over the past 10 years, Colombia has become one of the most stable economies in the region. Improved security, sound government policies, steady economic growth, moderate inflation and a wide range of opportunities make it worthwhile for U.S. exporters to take a serious look at Colombia.

Bogotá, the capital of Colombia, generates approximately 30% of the country's total GDP. Bogotá offers diverse business opportunities in almost all economic sectors.

The overall improvement in the national safety and security situation in Colombia has allowed the Government to focus on improving its infrastructure development, which along with a boom in the extractive industries, has fueled the growth of U.S. exports to Colombia, including opportunities generated by highway, hotel and housing construction in Bogotá and coastal cities such as Cartagena and Barranquilla. The Government of Colombia has earmarked $26 billion over the next 4 years for primarily road projects. However, on-going and future projects exist in airport modernization, sea and river port developments, and rail line upgrades. In addition, most major cities in Colombia are looking for solutions to improve internal transportation, including mass transit. A recently completed USTDA reverse intelligent transportation mission highlighted the opportunities that exist in Colombia across the board in transportation infrastructure.

Colombia's traditional acceptance of U.S. brands as well as U.S. and international standards provide a solid foundation for U.S. firms seeking to do business there. Moreover, the entry-into-force of the US-Colombia Free Trade Agreement on May 15, 2012 provided immediate duty-free entry for 80% of U.S. consumer and industrial exports to Colombia, with remaining tariffs to be phased out over the next 10 years. The Agreement also opens the market for remanufactured goods and provides greater protection for intellectual property rights (IPR).

Panama

Panama has historically served as the crossroads of trade for the Americas. Its strategic location as a bridge between two oceans and the meeting of two continents has made Panama not only a maritime and air transport hub, but also an international trading, banking, and services center. Panama's global and regional prominence is being enhanced by recent trade liberalization and privatization, and it is participating actively in the hemispheric movement toward free trade agreements.

Panama's dollar-based economy offers low inflation in comparison with neighboring countries and zero foreign exchange risk. Panama and the U.S. recently implemented a Trade Promotion Agreement (TPA) that will eliminate 86% of tariffs and duties on U.S. industrial exports to Panama upon entry into force. But even before the implementation of the TPA, the U.S. was Panama's most important trading partner, with about 30% of the import market, and U.S. products have enjoyed a high degree of acceptance in Panama. In 2011, U.S. exports to Panama jumped 34% to $8.25 billion—in no small part due to the fact that Panama's economy grew 10.5%. However, international competition for sales is strong across sectors including telecommunications equipment, automobiles and heavy construction equipment to name a few.

Panama now enjoys investment grade rating status, granting the Government of Panama international recognition for recent tax reforms and its record of steady GDP growth while keeping its deficits under control (even in 2009, a dismal year for the world economy, Panama's economy grew 2.9% and the Government of Panama's deficit was only 1% of GDP). Not only does the investment-grade rating lower the cost of borrowing for the Government of Panama, but it sends a strong market signal that Panama, even while carrying a debt ratio that is relatively high, is one of only five Latin American countries to achieve this distinction.

Panama's economy is based primarily on a well-developed services sector, accounting for about 75% of GDP. Services include the Panama Canal, banking, the Colon Free Zone (CFZ), insurance, container ports, and flagship registry. Panama is currently engaged in the Panama Canal expansion project. This project, in conjunction with the expansion of the capacities of its ports on both the Atlantic and Pacific coasts, will solidify Panama's global logistical advantage in the Western Hemisphere.

This logistical platform has aided the success of the CFZ, the second largest in the world after Hong Kong, which has become a vital trading and transshipment center serving the region and the world. CFZ imports—a broad array of luxury goods, electronic products, clothing, and other consumer products—arrive from all over the world to be resold, repackaged, and reshipped, primarily to regional markets.

Other Products and Services

The foregoing analysis of infrastructure export opportunities in Brazil, Colombia and Panama is not intended to be exhaustive, but illustrative of the many opportunities available to U.S. businesses. Applications from companies selling products or services within the scope of this mission will be considered and evaluated by the U.S. Department of Commerce. Companies whose products or services do not fit the scope of the mission may contact their local U.S. Export Assistance Center (USEAC) to learn about other business development missions and export promotion services that may provide more targeted export opportunities. Companies may call 1-800-872-8723, or visit the Web site: http://www.export.gov to obtain such information.

Mission Goals

This mission will demonstrate the United States' commitment to a sustained economic partnership with Brazil, Colombia and Panama. The mission's purpose is to support the business development goals for U.S. firms as they construct a firm foundation for future business in Brazil, Colombia and Panama and specifically aims to:

• Assist in identifying potential partners and strategies for U.S. companies to gain access to each market for infrastructure products and services.

• Confirm U.S. Government support for activities of U.S. business in each market and to provide access to senior Brazilian, Colombian and Panamanian government decision makers.

• Listen to the needs, suggestions and experience of individual participants so as to shape appropriate U.S. Government positions regarding U.S. business interests in the region.

• Organize private and focused events with local business and association leaders capable of becoming partners and clients for U.S. firms as they develop their business in the region.

• Assist development of competitive strategies and market access with high level information gathering from private and public-sector leaders.

Mission Scenario

The mission will stop in São Paulo and Brasília, Brazil, Bogotá, Colombia, and Panama City, Panama. In each country, participants will meet with pre-screened potential agents, distributors, and representatives, as well as other business partners and government officials. They will also attend market briefings by U.S. Embassy officials, as well as networking events offering further opportunities to speak with local business and industry decision-makers.

Proposed Time Table

Sunday, May 12 | São Paulo, Brazil | Business development mission Orientation.
|  | U.S Government Trade Finance Briefing.
|  | Brazil Commercial Opportunity Overview.
|  | Country Team Briefing.
|  | Welcome Dinner.
Monday, May 13 | São Paulo, Brazil | Industry Briefings/Roundtable Discussions.
|  | One-on-One Business Appointments.
|  | Amcham or other Luncheon Speech.
|  | Networking Reception.
Tuesday, May 14 | São Paulo, Brazil | Industry Briefings/Roundtable Discussions.
|  | One-on-One Business Appointments.
| OR Brasília, Brazil | Government Meetings.
| Bogotá, Colombia | No Formal Events.
Wednesday, May 15 | Bogotá, Colombia | Colombia Commercial Opportunity Overview.
|  | Country Team Briefing.
|  | Government Meetings.
|  | Networking Reception.
Thursday, May 16 | Bogotá, Colombia | Government Meetings.
|  | One-on-One Business Appointments.
|  | Amcham or other Luncheon Speech.
| Panama City, Panama | Panama Commercial Opportunity Overview.
|  | Country Team Briefing.
|  | Networking Reception.
Friday, May 17 | Panama City, Panama | Government Meetings.
|  | One-on-One Business Appointments.
|  | Amcham or other Luncheon Speech.
|  | Wrap-up Discussion.
|  | Closing Dinner.

Participation Requirements

All parties interested in participating in the Secretarial Infrastructure Business Development Mission to Brazil, Colombia and Panama or Colombia and Panama must complete and submit an application package for consideration by the Department of Commerce. All applicants will be evaluated on their ability to meet certain conditions and best satisfy the selection criteria as outlined below. Approximately 20-25 companies will be selected to participate in the mission from the applicant pool. U.S. companies doing business with Brazil, Colombia and Panama, as well as U.S. companies seeking to enter these markets for the first time may apply.

Fees and Expenses

After a company has been selected to participate on the mission, a payment to the Department of Commerce in the form of a participation fee is required. The fee schedule for each mission is below:

Brazil, Colombia and Panama (May 12-18):

• $11,750 for large firms

• $9,750 for a small or medium-sized enterprises (SMEs) ¹

¹ An SME is defined as a firm with 500 or fewer employees or that otherwise qualifies as a small business under SBA regulations (see http://www.sba.gov/services/contractingopportunities/sizestandardstopics/index.html). Parent companies, affiliates, and subsidiaries will be considered when determining business size. The dual pricing reflects the Commercial Service's user fee schedule that became effective May 1, 2008 (see http://www.export.gov/newsletter/march2008/initiatives.html for additional information).

• $2,750 each additional firm representative (large firm or SME)

Colombia and Panama (May 14-18):

• $7,300 for large firms

• $5,900 for a small or medium-sized enterprises (SMEs)

• $1,750 each additional firm representative (large firm or SME)

Expenses for travel, lodging, most meals, and incidentals will be the responsibility of each mission participant. Flight costs between mission stops are included in the participation fee.

Conditions of Participation

An applicant must submit a completed and signed mission application and supplemental application materials, including adequate information on the company's products and/or services, primary market objectives, and goals for participation. If the Department of Commerce receives an incomplete application, the Department may reject the application, request additional information, or take the lack of information into account when evaluating the applications.

Each applicant must also:

• Certify that the products and services it seeks to export through the mission are either produced in the United States, or, if not, marketed under the name of a U.S. firm and have at least 51% U.S. content. In cases where the U.S. content does not exceed 50%, especially where the applicant intends to pursue investment and major project opportunities, the following factors may be considered in determining whether the applicant's participation in the business development mission is in the U.S. national interest:

○ U.S. materials and equipment content;

○ U.S. labor content;

○ Repatriation of profits to the U.S. economy;

○ Potential for follow-on business that would benefit the U.S. economy;

• Certify that the export of the products and services that it wishes to export through the mission would be in compliance with U.S. export controls and regulations;

• Certify that it has identified to the Department of Commerce for its evaluation any business pending before the Department of Commerce that may present the appearance of a conflict of interest;

• Certify that it has identified any pending litigation (including any administrative proceedings) to which it is a party that involves the Department of Commerce; and

• Sign and submit an agreement that it and its affiliates (1) have not and will not engage in the bribery of foreign officials in connection with a company's/participant's involvement in this mission, and (2) maintain and enforce a policy that prohibits the bribery of foreign officials.

Selection Criteria for Participation

Selection will be based on the following criteria, listed in decreasing order of importance:

• Suitability of a company's products or services to the target markets and the likelihood of a participating company's increased exports to or business interests in the target markets as a result of this mission;

• Demonstrated export experience in the target markets and/or other foreign markets;

• Consistency of company's products or services with the scope and desired outcome of the mission's goals;

• Current or pending major project participation; and

• Rank/seniority of the designated company representative.

Additional factors, such as diversity of company size, type, location, and demographics, may also be considered during the review process.

Referrals from political organizations and any documents containing references to partisan political activities (including political contributions) will be removed from an applicant's submission and not considered during the selection process.

Timeframe for Recruitment and Applications

Mission recruitment will be conducted in an open and public manner, including publication in the Federal Register (https://www.federalregister.gov/), posting on ITA's business development mission calendar (http://export.gov/trademissions) and other Internet Web sites, press releases to general and trade media, direct mail, broadcast fax, notices by industry trade associations and other multiplier groups, and publicity at industry meetings, symposia, conferences, and trade shows.

Recruitment will begin immediately and conclude no later than Friday, March 22, 2013.

The Department of Commerce will evaluate applications and inform applicants of selection decisions at 2 points during the recruitment period. A portion of the participants will be selected each time and informed of their selection as soon as possible in order to allow them to begin preparing for the business development mission. All remaining applications and any additional applications received in the interim will be evaluated simultaneously at the following evaluation. Deadlines for each round of evaluation are as follows:

• Friday, March 8, 2013

• Friday, March 22, 2013

Applications received after the March 22nd deadline will be considered only if space and scheduling constraints permit.

How To Apply

Applications can be downloaded from the business development mission Web site (http://export.gov/BrazilColombiaPanama2013) or can be obtained by contacting the Office of Business Liaison (below). Completed applications should be submitted to the Office of Business Liaison at (email: businessliaison@doc.gov or fax: 202-482-4054).

Contacts

General Information and Applications: The Office of Business Liaison, 1401 Constitution Avenue NW., Room 5062, Washington, DC 20230, Tel: 202-482-1360, Fax: 202-482-4054, Email: BusinessLiaison@doc.gov.

Elnora Moye,
Trade Program Assistant.

[FR Doc. 2013-05508 Filed 3-8-13; 8:45 am]

BILLING CODE 3510-FP-P